DEPARTMENT OF EDUCATION

National Institute on Disability and Rehabilitation Research (NIDRR)—Disability and Rehabilitation Research Projects and Centers Program—Disability Rehabilitation Research Projects (DRRPs)

AGENCY: Office of Special Education and Rehabilitative Services (OSERS), Department of Education.

ACTION: Notice of final priority and definitions.

SUMMARY: The Assistant Secretary for Special Education and Rehabilitative Services, in conjunction with the Assistant Secretary for Vocational and Adult Education and the Assistant Secretary for Postsecondary Education, announces a priority and definitions for a Center on Postsecondary Education for Students With Intellectual Disabilities (Center) under the DRRP program administered by NIDRR. The Assistant Secretary may use this priority and definitions for competitions in fiscal year (FY) 2008 and later years. We take this action to focus research attention on areas of national need. We intend this priority and definitions to improve postsecondary education and other outcomes for individuals with intellectual disabilities.

DATES: Effective Date: This priority and definitions are effective May 27, 2008.

FOR FURTHER INFORMATION CONTACT: Tracy Justesen, U.S. Department of Education, 400 Maryland Avenue, SW., Room 5107, Potomac Center Plaza, Washington, DC 20202-2700. Attention Donna Nangle. Telephone: (202) 245-7462 or by e-mail: donna.nangle@ed.gov.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the General Disability and Rehabilitation Research Projects (DRRP) Requirements priority that it published in a notice of final priorities in the Federal Register on April 28, 2006 (71 FR 25472).

Additional information on the DRRP program can be found at: http://www.ed.gov/rschstat/research/pubs/res-program.html#DRRP.

We published a notice of proposed priority and definitions (NPP) for NIDRR's DRRP program in the Federal Register on December 11, 2007 (72 FR 70316). The NPP included a background statement that described our rationale for the priority and definitions proposed in that notice.

There are differences between the NPP and this notice of final priority and definitions (NFP) as discussed in the following section.

Analysis of Comments and Changes

In response to our invitation in the NPP, 11 parties submitted comments on the proposed priority and definitions. An analysis of the comments and of any changes in the priority and definitions since publication of the NPP follows.

Generally, we do not address technical and other minor changes, or suggested changes the law does not authorize us to make under the applicable statutory authority. In addition, we do not address general comments that raised concerns not directly related to the proposed priority or definitions.

Comment: One commenter suggested that the Center be designed so that students with intellectual disabilities (ID) or developmental disabilities (DD) are not segregated from other students.

Discussion: The Center is designed to conduct research and disseminate information on promising practices in postsecondary education; it will not provide postsecondary education for students with ID or DD. Therefore, because the Center will not provide direct services to students, the recommendation that it be designed so that students with ID or DD are not segregated from other students is inapplicable.

Changes: None.

Comment: One commenter noted that individuals with disabilities often have significant health issues and that success in postsecondary education may be related to their health status. This commenter recommended that the Center involve personnel with expertise in health issues related to individuals with disabilities.

Discussion: Nothing in the priority precludes applicants from proposing to involve personnel with expertise in the health of individuals with ID (e.g., these individuals might serve on the Center's advisory committee). However, we do not have a basis for requiring all applicants to do so.

Changes: None.

Comments: Two commenters asked for a definition of “longitudinal study” and whether the longitudinal study must be limited to an analysis of existing datasets or if the Center could collect its own longitudinal data. In addition, they asked whether applicants could propose to conduct analyses of existing datasets that were not mentioned specifically in the NPP.

Discussion: We recognize that, given the level of funding available for the Center, the Center would be unable to conduct a longitudinal study. Therefore, we have revised the priority to require the Center to do one or both of the following: (1) Engage in data collection activities, or (2) conduct secondary analyses of existing national and State longitudinal datasets. The purpose of the data collection activities and secondary data analyses would be to generate knowledge about the extent to which variations in educational, vocational, and independent living outcomes for students with ID are associated with participation in different types of postsecondary education programs. The National Longitudinal Transition Study-2 (NLTS-2) and the Florida K-20 Data Warehouse are examples of existing data sources that contain relevant data and have not been analyzed fully; applicants may propose to use other extant data sources. We believe that much can be learned from existing data sources without necessarily expending funds on designing surveys or collecting data. Finally, we do not believe it is necessary to define the term “longitudinal study” because the final priority does not require the Center to conduct such a study.

Changes: We have removed all references to conducting a longitudinal study from the priority. Instead, we have clarified the language in paragraph (b) to indicate that the Center must (1) engage in data collection activities; or (2) conduct secondary analyses of existing datasets, such as the NLTS-2 and the Florida K-20 Data Warehouse; or both.

Comment: One commenter suggested that efforts to collect new longitudinal data or establish baseline data may be more beneficial than analyses of existing data that are intended to generate knowledge about the relationship between postsecondary education and outcomes among individuals with ID.

Discussion: The funds available for this priority will likely not permit the Center to collect new longitudinal data or establish baseline data. However, we are convinced that conducting data collection activities, secondary analyses of existing data, or both, will generate new and beneficial knowledge about outcomes associated with postsecondary education programs for individuals with ID. Because this is the case, paragraph (b) of the priority allows applicants to conduct data collection activities, analyze existing datasets, or engage in both activities.

Changes: None.

Comment: Seven commenters noted that the datasets mentioned under paragraph (b) of the priority (i.e., the NLTS-2 and the Florida K-20 Data Warehouse) have limitations in disability variables and descriptors of postsecondary education programs that could negatively impact the extent to which secondary analyses relating to the population of individuals with ID may be completed. Further, the commenters expressed concern that neither of these datasets contains variables that are necessary to connect the outcomes of students with ID to the different types of postsecondary education programs that serve students with ID. These commenters also noted that neither dataset provides information on dual enrollment programs, and that some variables relating to postsecondary outcomes in the NLTS-2 dataset have zero percent of cases of people with ID.

Discussion: With respect to disability variables or identifier codes, while it is true that neither of the datasets mentioned in the priority include the “intellectual disabilities” code, both datasets include related codes that would make it possible to conduct analyses that cover students with ID and that could address important outcomes for this population. For example, although the Florida K-20 Data Warehouse does not include an “intellectual disabilities” code, it contains 22 “exceptionality” codes that include (a) educable mentally handicapped, (b) trainable mentally handicapped, and (c) profoundly mentally handicapped. Using these codes, it would be possible to identify a sample of students with ID by selecting students whose primary disability is educable, trainable, or profoundly mentally handicapped, and to conduct any number of analyses related to the outcomes for this population. Likewise, while the NLTS-2 does not include an “intellectual disabilities” code, it would be possible to identify a sample of students with ID in the dataset by selecting students whose primary disability is mental retardation or who were identified as having mental retardation on either the parent or teacher interview.

With respect to descriptors of postsecondary education, while it is true that neither dataset provides information on dual enrollment programs, we believe that there are many variables or descriptors related to students with ID that are worth exploring.

Lastly, the commenters observed that some variables related to postsecondary outcomes in the NLTS-2 dataset show zero percent of cases of individuals with ID. However, the commenters did not identify any specific postsecondary variables or explain the importance of these variables to the work of the Center. The NLTS-2 has five waves of data, and only three of these waves include individuals who are old enough to be included in the postsecondary sample, particularly because many students with ID attend secondary school to the maximum age (21 years old or older). We believe that the number of variables lacking relevant cases should decline as individuals age in the postsecondary category.

Changes: None.

Comment: Seven commenters noted that the effort to develop and implement postsecondary education programs for individuals with ID is in its early stages. Given this fact, six of these commenters noted that experimental designs would be premature, and one recommended that the Center be allowed to use multiple research methods and data collection designs.

Discussion: Paragraph (b) of the priority requires the Center to conduct scientifically based research. The definition of scientifically based research, as the term is used in the priority, includes but is not limited to research that utilizes experimental or quasi-experimental designs. We are interested in rigorous methods of research that produce findings that are useful for the education field and for further research. The peer review process will determine the merits of each proposal.

Changes: None.

Comment: One commenter asked how “postsecondary education programs” are defined.

Discussion: Although the Definitions section of the NPP included a definition of “postsecondary education programs,” upon further review, we believe that this definition is not sufficiently clear because it did not incorporate the language from the background section of the NPP referring to dual enrollment programs for students with ID who are still enrolled in high school and are receiving special education services. To clarify what we mean, instead of providing a definition of “postsecondary education programs,” we will provide a more expansive explanation of the term “postsecondary education programs” in the text of the priority.

Changes: We have removed the definition of “postsecondary education programs” from the Definitions section of this notice, and revised paragraph (a) of the priority to provide a fuller explanation of what is meant by this term.

Comment: Four commenters recommended that the Department's Office of Postsecondary Education (OPE) be included in the list of the Center's required collaborators in paragraph (h) of the priority.

Discussion: As described in the opening paragraph of the priority, OPE is one of the sponsors of this Center. However, many of the activities supported by this Center will focus on technical assistance and research. Because OPE does not fund technical assistance grantees, it would not be appropriate or useful to require the Center to collaborate with OPE for purposes of this priority.

Changes: None.

Comment: Six commenters suggested that “employment” be added to the list of key outcomes described in the opening sentence of paragraph (b) of this priority. While these commenters noted that vocational outcomes are important, they stated that employment should be highlighted by specifically including it in the list of outcomes for students with ID.

Discussion: We agree that employment is a desired outcome for individuals with ID participating in postsecondary education programs and will add it to the list of outcomes in paragraph (b) of the priority.

Changes: We have added employment to the list of outcomes described in paragraph (b) of the priority.

Comment: Five commenters noted that legislation is pending in Congress that would authorize demonstration projects and a coordinating center, the primary purpose of which would be training and technical assistance on programs providing postsecondary education for individuals with ID. These commenters noted that the Center should focus primarily on research and dissemination of technical assistance materials. The commenters recommend that the Center remain distinct from the projects pending in Congress.

Discussion: We agree that the focus of the Center should be on research and the dissemination of technical assistance materials, and we believe that this purpose is reflected in the priority.

Changes: None.

Comment: Five commenters recommended that the priority expand the age range of students with ID who will be the focus of the Center's work to 13 to 26 years. They expressed that students with ID may require additional time to complete a postsecondary education program. These commenters also noted that the definition of students with intellectual disabilities is overly restrictive in terms of the age of onset of a student's disability and the scope of the disabilities covered.

Discussion: We agree that the proposed age range of 16 to 24 years is too restrictive. The age range of students included in the NLTS-2 and the Florida K-20 Education Data Warehouse is comparable to the age range of 13 to 26 years suggested by the commenters. Changing the age range to 13 to 26 years of age in the definition of students with intellectual disabilities would support the Center's potential use of these two databases as key data sources for its analyses. In addition, using this age range would address the commenters' concerns that students with ID may require additional time to complete a postsecondary education program. Therefore, we will change the definition of students with intellectual disabilities to cover individuals 13 to 26 years of age. In addition, although some individuals acquire disabilities that result in cognitive limitations after the age of 18, we continue to agree with the American Association of Intellectual and Developmental Disabilities and the Equal Employment Opportunity Commission that students with intellectual disabilities are students whose disability occurred before age 18. We do not believe this definition is too restrictive in terms of scope of disabilities covered; we are simply restricting the definition to those individuals who acquired their disability prior to age 18 regardless of the specific disability involved.

Changes: We have revised paragraph (a) of the definition of students with intellectual disabilities so that the term includes individuals ages 13 to 26.

Comment: Two commenters suggested that universal design for learning be a required element for evaluating promising practices under paragraph (a) of the priority. These commenters proposed a definition of universal design for learning that the Department could use in connection with the proposed priority.

Discussion: We consider universal design for learning to be one approach that could be evaluated as a promising practice rather than a required element for evaluating promising practices. We, therefore, decline to make the requested changes.

Changes: None.

Note: This notice does not solicit applications. In any year in which we choose to use this priority and definitions, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

This NFP is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and, (6) disseminate findings.

Priority—Center on Postsecondary Education for Students With Intellectual Disabilities

The Assistant Secretary for Special Education and Rehabilitative Services, the Assistant Secretary for Vocational and Adult Education, and the Assistant Secretary for Postsecondary Education jointly announce a priority for a DRRP—the Center on Postsecondary Education for Students with Intellectual Disabilities (Center). In order to meet this priority, the Center must—

(a) Identify key characteristics and promising practices of postsecondary education programs at community colleges, vocational-technical schools, and four-year colleges that currently serve students with intellectual disabilities (ID), including specialized programs that are intended to promote independence and improve employment outcomes for students with ID such as dual enrollment programs for students with ID who are still enrolled in high school and receiving special education services. This includes collecting information on—

(1) How students with ID are recruited and retained in these programs;

(2) The extent to which students with ID are enrolled in academic courses as part of these programs; and

(3) The types and extent of accommodations provided to students with ID in order to ensure their active participation in these programs;

(b) Conduct scientifically based research (as defined in 20 U.S.C. 7801(37) and included in the Definitions section of this notice) to determine whether variations in educational, vocational, employment, and independent living outcomes for students with ID are associated with participation in different types of postsecondary education programs. To fulfill this requirement, the Center must do one or both of the following: (1) Engage in data collection activities or (2) conduct secondary analyses of existing national and State longitudinal datasets, such as the National Longitudinal Transition Study-2 (NLTS-2) and the Florida K-20 Education Data Warehouse.

Note: The NLTS-2 and the Florida K-20 Education Data Warehouse are only examples of existing datasets that may be used for purposes of conducting secondary analysis. Reports of study findings and data tables containing frequency counts for some variables can be accessed at: http://www.nlts2.org. For information on acquiring restricted-use data sets for NLTS-2, see page: http://www.nlts2.org/data_tables/datatable_training.html. of this Web site. The Florida K-20 Education Data Warehouse can be accessed at: http://www.edwapp.doe.state.fl.us/doe/.

(c) Compile existing technical assistance materials and develop new materials, as needed, including information on promising practices that can be replicated, for postsecondary education institutions that are developing new programs or expanding existing programs to provide activities for students with ID. Technical assistance materials must be informed by knowledge acquired through the Center's research program, as the knowledge becomes available;

(d) Partner with existing training and technical assistance providers for the purpose of disseminating technical assistance materials to postsecondary education programs interested in developing new programs or expanding existing programs for students with ID. To the extent possible, technical assistance and other informational materials should be disseminated to interested students with ID and their families;

(e) Provide technical assistance information and materials to appropriate NIDRR research and dissemination centers, including the National Center for the Dissemination of Disability Research and the Research Utilization Support and Help (RUSH) Project at the Southwest Educational Development Laboratory, and the Center for International Rehabilitation Research Information and Exchange at the State University of New York at Buffalo;

(f) Establish an advisory committee of researchers, vocational rehabilitation providers, transition planners, secondary and postsecondary educators, individuals with ID, and parents of individuals with ID to provide the Center, on an ongoing basis, with guidance on the Center's research and technical assistance activities;

(g) Conduct a formative evaluation of the Center's activities, using clear performance objectives to ensure continuous improvement in the operation of the Center, including objective measures of progress in implementing the project and ensuring the quality of research and technical assistance; and

(h) To the extent possible, consult with the sponsors of activities that are similar or related to the Center's activities, especially, existing training and technical assistance resources that have been established by relevant offices within the U.S. Department of Education, including the Rehabilitation Services Administration's Rehabilitation Continuing Education Programs; the Office of Special Education Programs' Technical Assistance and Dissemination Network and Technical Assistance Communities of Practice; the Office of Vocational and Adult Education's National Research Center for Career and Technical Education; and the NIDRR network of knowledge translation grantees. This consultation must be designed to avoid duplication of efforts and to facilitate the exchange of information, pool resources, and improve the overall effectiveness of the Center's activities.

Definitions

The Assistant Secretary for Special Education and Rehabilitative Services, the Assistant Secretary for Vocational and Adult Education, and the Assistant Secretary for Postsecondary Education jointly establish the following definitions for the purpose of the Center on Postsecondary Education for Students With Intellectual Disabilities priority:

(1) Adaptive skill areas, as used in the definition of students with intellectual disabilities, means the basic skills needed for everyday life, such as communication, self-care, home living, social skills, leisure, health and safety, self-direction, functional academics (reading, writing, basic math), and work.

(2) Scientifically based research has the meaning given the term in 20 U.S.C. 7801(37): Research that involves the application of rigorous, systematic, and objective procedures to obtain reliable and valid knowledge relevant to education activities and programs. It includes research that—

(a) Employs systematic, empirical methods that draw on observation or experiment;

(b) Involves rigorous data analyses that are adequate to test the stated hypotheses and justify the general conclusions drawn;

(c) Relies on measurements or observational methods that provide reliable and valid data across evaluators and observers, across multiple measurements and observations, and across studies by the same or different investigators;

(d) Is evaluated using experimental or quasi-experimental designs in which individual entities, programs, or activities are assigned to different conditions and with appropriate controls to evaluate the effects of the condition of interest, with a preference for random-assignment experiments, or other designs to the extent that those designs contain within-condition or across-condition controls;

(e) Ensures that experimental studies are presented in sufficient detail and clarity to allow for replication or, at a minimum, offer the opportunity to build systematically on their findings; and

(f) Has been accepted by a peer-reviewed journal or approved by a panel of independent experts through a comparably rigorous, objective, and scientific review.

(3) Students with intellectual disabilities means—

(a) Individuals ages 13 through 26 whose intellectual functioning levels require significant changes in instructional methods and modifications to the curriculum in order to participate in postsecondary education programs;

(b) Individuals who have significant limitations in adaptive skill areas as expressed in conceptual, social, and practical adaptive skills; and

(c) Individuals whose disabilities originated before the age of 18.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priority and definitions justify the costs.

Summary of Potential Costs and Benefits

The benefits of the DRRP programs have been well established over the years in that other DRRP projects have been completed successfully. The priority and definitions announced in this notice will generate new knowledge through research, dissemination, utilization, and technical assistance.

Another benefit of the final priority and definitions is that establishing a new DRRP will support the President's NFI and improve the lives of individuals with disabilities. The new DRRP will generate, disseminate, and promote the use of new information that will improve the options for individuals with intellectual disabilities to achieve improved education, employment, and independent living outcomes.

Applicable Program Regulations: 34 CFR part 350.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A Disability Rehabilitation Research Projects)

Program Authority: 29 U.S.C. 762(g) and 764(a).

Dated: April 22, 2008.
Tracy R. Justesen,
Assistant Secretary for Special Education and Rehabilitative Services.

[FR Doc. E8-9108 Filed 4-24-08; 8:45 am]

BILLING CODE 4000-01-P